DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 65 FR 41079, dated July 3, 2000) is amended to reflect the retitling of the Division of Public Health Systems and the Division of Media and Training Services, Public Health Practice Program Office, to the Division of Public Health Systems Development and Research and the Division of Professional Development and Evaluation respectively.

Section C-B, Organization and Functions, is hereby amended as follows:

Delete the title Division of Public Health Systems (CH5) and insert the title Division of Public Health Systems Development and Research (CH5).

Delete the title Division of Media and Training Services (CH7) and insert the title Division of Professional Development and Evaluation (CH7).

Dated: September 20, 2000.
Martha Katz,
Acting Director.

[FR Doc. 00-25261 Filed 9-29-00; 8:45 am]

BILLING CODE 4160-18-M